DEPARTMENT OF AGRICULTURE

Forest Service

Notice of Extension of Comment Period

AGENCY: Forest Service, USDA.

ACTION: Notice: Notice of Extension of Comment Period.

SUMMARY: The USDA Forest Service published a Notice of Intent in the Federal Register of October 5, 2010, requesting comments concerning a Notice of Intent to Prepare an Environmental Impact Statement for the Greens Creek Mine Tailings Expansion. The comment period is to be extended.

FOR FURTHER INFORMATION CONTACT: Chad VanOrmer, 907-789-6202 or Sarah Samuelson, 907-789-6274.

Correction

In the Federal Register of October 5, 2010, in FR Doc. 2010-24907, on page 61415, in the first column, correct the DATES caption to read:

DATES: Comments concerning the scope of the analysis must be received by November 19, 2010.

Dated: October 22, 2010.
Forrest Cole,
Forest Supervisor.

[FR Doc. 2010-27361 Filed 10-28-10; 8:45 am]

BILLING CODE 3410-11-P